DEPARTMENT OF HEALTH AND HUMAN SERVICES

Centers for Disease Control and Prevention

Notice of Closed Meeting

In accordance with the Federal Advisory Committee Act, the Centers for Disease Control and Prevention (CDC) announces the following meeting.

The meeting will be closed to the public in accordance with provisions set forth in Section 552b(c)(4) and (6), Title 5 U.S.C., and the Determination of the Director, Management Analysis and Services Office, CDC, pursuant to Public Law 92-463.

Name of Committee: Disease, Disability, and Injury Prevention and Control Special Emphasis Panel (SEP)-PAR15-303, Occupational Safety and Health Education Research Centers (ERC).

Date: February 21-23, 2018.

Time: 8:30 a.m.-6:00 p.m., EST.

Place: The Alexandrian Hotel, 480 King Street Alexandria, VA 22314, 703-549-6080.

Agenda: The meeting will include the initial review, discussion, and evaluation of applications received in response to PAR15-303, Occupational Safety and Health Education Research Centers (ERC).

FOR FURTHER INFORMATION CONTACT: Michael Goldcamp, Ph.D., Scientific Review Officer/CDC, 1095 Willowdale Road, Mailstop H1808, Morgantown, West Virginia, 26505, (304) 285-5951; mgoldcamp@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office; Centers for Disease Control and Prevention.

[FR Doc. 2017-27324 Filed 12-19-17; 8:45 am]

BILLING CODE 4163-18-P